DEPARTMENT OF COMMERCE

Office of Administration

[Docket No.: 020125021-3179-02]

Guidance to Federal Financial Assistance Recipients on the Title VI Prohibition Against National Origin Discrimination Affecting Limited English Proficient Persons

AGENCY: Department of Commerce.

ACTION: Notice.

SUMMARY: The Department of Commerce (Commerce) publishes this notice to announce the adoption of its policy guidance entitled Guidance to Federal Financial Assistance Recipients on Title VI Prohibition Against National Origin Discrimination Affecting Limited English Proficient Persons.

DATES: Commerce adopts the guidance as of March 24, 2003.

ADDRESSES: For a copy of the policy guidance, please mail requests to Theresa C. Counce, Office of Civil Rights, Room 6003, U.S. Department of Commerce, 14th and Constitution Ave., NW., Washington, DC 20230. Requests may also be submitted by e-mail to TCounce@doc.gov.

FOR FURTHER INFORMATION CONTACT: Theresa C. Counce, Office of Civil Rights, telephone: 202-482-8187, TDD: 202-482-2030. Arrangements to receive the policy in an alternate format may be made by contacting the named individual.

SUPPLEMENTARY INFORMATION: On March 24, 2003, Commerce published and requested comments on a policy guidance notice entitled Guidance to Federal Financial Assistance Recipients of the Title VI Prohibition Against National Origin Discrimination Affecting Limited English Proficient Persons (68 FR 14180, March 24, 2003). Limited English proficient (LEP) persons are those having limited ability to read, write, speak, or understand English. Executive Order (EO) 13166 (August 16, 2000) directs each Federal agency that extends assistance subject to the requirements of Title VI of the Civil Rights Act of 1964, as amended, publish such guidance. The Office of Management and Budget (OMB) issued a report on March 14, 2002 recommending that Federal agencies issue uniform guidance for recipients, and the Department of Justice (DOJ) published model guidance 67 FR 41455 (June 18, 2002) for agencies to follow when developing agency-specific guidance. Commerce's guidance, published on March 24, 2003, adheres to DOJ's model guidance.

Commerce received only one comment in response to the March 24, 2003 notice. The organization ProEnglish, of Arlington, VA submitted 7 pages in opposition to the guidance and EO 13166. Commerce acknowledges ProEnglish's opposition to the Executive Order and to Commerce's guidance, however Commerce has been directed by the Executive Order to develop and publish its guidance. As such, the guidance published on March 24, 2003.

By this notice, Commerce is adopting the proposed system as final without changes on July 29, 2003.

Although the March 24, 2003 notice indicated that the guidance was effective on March 24, 2003, Commerce clarifies that the March 24, 2003 date was the date when Commerce would begin accepting comments. There is no effective date of this guidance, as it is policy guidance.

Dated: July 23, 2003.
Suzan J. Aramaki,
Director, Office of Civil Rights.

[FR Doc. 03-19189 Filed 7-28-03; 8:45 am]

BILLING CODE 3510-BP-P